DEPARTMENT OF HOMELAND SECURITY

Coast Guard

33 CFR Part 165

[Docket No. USCG-2010-0799]

RIN 1625-AA00

Safety Zone; Olympia Harbor Days Tug Boat Races, Budd Inlet, WA

AGENCY: Coast Guard, DHS.

ACTION: Temporary final rule.

SUMMARY: The Coast Guard is establishing a temporary safety zone within the navigation channel in Budd Inlet, WA during Olympia Harbor Days tug boat races. This safety zone is necessary to restrict vessel movement during racing activity in order to ensure the safety of participants, spectators, and the maritime public. This action is intended to restrict vessel traffic movement on specified waters of the Budd Inlet, WA during Olympia Harbor Days tug boat races.

DATES: This rule is effective from 8 a.m. until 8 p.m. on September 5th, 2010.

ADDRESSES: Documents indicated in this preamble as being available in the docket are part of docket USCG-2010-0799 and are available online by going to http://www.regulations.gov, inserting USCG-2010-0799 in the “Keyword” box, and then clicking “Search.” They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this temporary rule, call or e-mail LTJG Ashley M. Wanzer, Sector Puget Sound, Waterways Management Division, Coast Guard; telephone 206-217-6175, e-mail SectorSeattleWWM@uscg.mil. If you have questions on viewing the docket, call Renee V. Wright, Program Manager, Docket Operations, telephone 202-366-9826.

SUPPLEMENTARY INFORMATION:

Regulatory Information

The Coast Guard is issuing this temporary final rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b)(B), the Coast Guard finds that good cause exists for not publishing a notice of proposed rulemaking (NPRM) with respect to this rule because it is contrary to the public interest to delay the effective date of this rule. Delaying the effective date by first publishing an NPRM would be contrary to the safety zone's intended objectives because immediate action is needed to restrict vessel movement during racing activity in order to ensure the safety of participants, spectators, and the maritime public.

Under 5 U.S.C. 553(d)(3), the Coast Guard finds that good cause exists for making this rule effective less than 30 days after publication in the Federal Register. Due to the need for immediate action, the restriction of vessel traffic is necessary to protect life and property; therefore, a 30-day notice is impracticable. Delaying the effective date would be contrary to the safety zone's intended objectives of protecting persons and vessels involved in the event, and enhancing public and maritime safety.

Basis and Purpose

This temporary rule addresses safety concerns associated with the Olympia Harbor Days tugboat races. Tugboat races result in vessel and spectator congestion in the proximity of the race course. Additionally, the draft of these vessels creates a large wake when accelerating at fast speeds during races. This safety zone is necessary to ensure spectators remain an adequate distance from the race course and to provide unencumbered access for emergency response craft in the event of a race-related emergency. This safety zone will do so by prohibiting persons and vessel operators from entering, transiting or remaining within this safety zone while enforced.

Discussion of Rule

Olympia Harbor Days is an annual tugboat race in Budd Inlet, WA involving three classes of tugboat races. Each class of vessel will compete in a heat which will take place in the navigation channel. This safety zone restricts vessel movement in the navigation channel during each heat of racing. This rule is effective from 8 a.m. until 8 p.m. on September 5th, 2010. The safety zone will encompass all waters of Budd Inlet, WA the width of the navigation channel south of a line connecting the following points: 47°05′34″ N 122°55′53″ W and 47°05′34″ N 122°55′28″ W, until reaching the northernmost end of the navigation channel at a line connecting the following points 47°05′06″ N 122°55′28″ W and 47°05′03″ N, 122°55′44″ W then southeasterly until reaching the southernmost entrance of the navigation channel at a line connecting the following points 47°04′00″ N 122°54′28″ N 122°54′35″ W. Access to the zone will be restricted during the specified date and time. Entry into, transit through, mooring or anchoring within this zone is prohibited unless authorized by the Captain of the Port, Puget Sound or Designated Representative.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order. This rule is not a significant regulatory action because it is short in duration and vessels will be able to transit the navigation channel between heats of racing.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under5 U.S.C. 605(b) that this rule will not have a significant economic impact on a substantial number of small entities. This rule will affect the following entities, some of which may be small entities: the owners or operators of vessels intending to transit this zone during periods of enforcement. This safety zone will not have a significant economic impact on a substantial number of small entities for the following reasons. This rule will be enforced for a short duration and vessels will be able to navigate the channel between heats with the permission of the patrolling event committee crafts.

Assistance for Small Entities

Under section 213(a) of the Small Business Regulatory Enforcement Fairness Act of 1996 (Pub. L. 104-121), we offer to assist small entities in understanding the rule so that they can better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 (adjusted for inflation) or more in any one year. Though this rule will not result in such an expenditure, we do discuss the effects of this rule elsewhere in this preamble.

Taking of Private Property

This rule will not cause a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have Tribal implications under Executive Order 13175, Consultation and Coordination with Indian Tribal Governments, because it does not have a substantial direct effect on one or more Indian Tribes, on the relationship between the Federal Government and Indian Tribes, or on the distribution of power and responsibilities between the Federal Government and Indian Tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 023-01 and Commandant Instruction M16475.lD, which guide the Coast Guard in complying with the National Environmental Policy Act of 1969 (NEPA) (42 U.S.C. 4321-4370f), and have concluded this action is one of a category of actions that do not individually or cumulatively have a significant effect on the human environment. This rule is categorically excluded, under figure 2-1, paragraph (34)(g.), of the Instruction. This rule involves the establishment of a safety zone. An environmental analysis checklist and a categorical exclusion determination will be made available in the docket where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapters 701, 3306, 3703; 50 U.S.C. 191, 195; 33 CFR 1.05-1, 6.04-1, 6.04-6, and 160.5; Pub. L. 107-295, 116 Stat. 2064; Department of Homeland Security Delegation No. 0170.1.

2. Add temporary § 33 CFR 165.T13-159 to read as follows:

§ 165.T13-159 Safety Zone; Olympia Harbor Days Tug Boat Races, Budd Inlet, WA.

(a) Safety Zones. The following area is designated as a safety zone:

1. Location. All waters of Budd Inlet, WA the width of the navigation channel south of a line connecting the following points: 47°05′34″ N 122°55′53″ W and 47°05′34″ N 122°55′28″ W until reaching the northernmost end of the navigation channel at a line connecting the following points 47°05′06″ N 122°55′28″ W and 47°05′03″ N 122°55′44″ W then southeasterly until reaching the southernmost entrance of the navigation channel at a line connecting the following points 47°04′00″ N 122°54′28″ N 122°54′35″ W.

(b) Effective Period. This regulation is effective from 8 a.m. until 8 p.m. on September 5th, 2010.

(c) Regulations. In accordance with the general regulations in 33 CFR Part 165, Subpart C, no person or vessel may enter, transit, moor, or anchor within this safety zone unless authorized by the Captain of the Port or Designated Representative.

(d) Authorization. All persons or vessels who desire to enter the safety zone created in this section must obtain permission from the Captain of the Port or Designated Representative by contacting either the event sponsor on VHF Ch 06, the on-scene patrol craft on VHF Ch 13 or Ch 16 or the Coast Guard Sector Puget Sound Joint Harbor Operations Center (JHOC) via telephone at 206-217-6002.

Dated: August 17, 2010.
S.W. Bornemann,
Captain, U.S. Coast Guard, Captain of the Port, Puget Sound.

[FR Doc. 2010-21779 Filed 8-31-10; 8:45 am]

BILLING CODE 9110-04-P